DEPARTMENT OF THE INTERIOR

National Park Service

[N6740; NPS-WASO-NAGPRA-NPS0041500; PPWOCRADN0-PCU00RP14.R50000]

Notice of Inventory Completion: U.S. Army Corps of Engineers, Walla Walla District, Walla Walla, WA

AGENCY: National Park Service, Interior.

ACTION: Notice.

SUMMARY: In accordance with the Native American Graves Protection and Repatriation Act (NAGPRA), the U.S. Army Corps of Engineers, Walla Walla District has completed an inventory of human remains and associated funerary objects and has determined that there is a cultural affiliation between the human remains and associated funerary objects and Indian Tribes or Native Hawaiian organizations in this notice.

DATES: Repatriation of the human remains and associated funerary objects in this notice may occur on or after January 20, 2026.

ADDRESSES: Send written requests for repatriation of the human remains and associated funerary objects in this notice to Scott Hall, U.S. Army Corps of Engineers, Walla Walla District, 201 North 3rd Avenue, Walla Walla, WA 99362, email scott.m.hall@usace.army.mil.

SUPPLEMENTARY INFORMATION: This notice is published as part of the National Park Service's administrative responsibilities under NAGPRA. The determinations in this notice are the sole responsibility of the U.S. Army Corps of Engineers, Walla Walla District, and additional information on the determinations in this notice, including the results of consultation, can be found in its inventory or related records. The National Park Service is not responsible for the determinations in this notice.

Abstract of Information Available

One associated funerary object has been identified from site 45AS2 (Steptoe Burial) in Asotin County, Washington. The associated funerary object is a pestle. Burials from this site were likely from the late prehistoric period (A.D. 1500-1700) with other areas of the site being used during a much wider temporal span. This cultural item was likely removed from site 45AS2 during excavations in 1972 conducted by the University of Idaho under contract with the Army Corps of Engineers. Between 1996 and 2000, the cultural item was transferred from the University of Idaho to Washington State University. The item was recently located in unprovenanced archaeological collections at Washington State University.

Human remains representing, at least, one individual have been identified from site 45BN15 (Rabbit Island) in Benton County, Washington. No associated funerary objects are present. There are two distinct time periods represented at site 45BN15. The earlier burials (Rabbit Island I) date to the Frenchman-Springs Phase (3500-1500 BP) while the later burials (Rabbit Island II) predate A.D. 1750. This Ancestor is currently at Central Washington University.

Human remains representing, at least, five individuals have been identified from site 45BN55 (Sheep Island) in Benton County, Washington. No associated funerary objects are present. Site 45BN55 was likely utilized during the late Pre-Contact to early Historic Period. These Ancestors are currently at Central Washington University and Eastern Washington University.

Human remains representing, at least, two individuals have been identified from site 45FR101 (Chiawana) in Franklin County, Washington. No associated funerary objects are present. These Ancestors were likely removed from the site during excavations in 1967. Site 45FR101 was a village site with two main temporal components including an early component from 5900-500 BC and a later component from A.D. 1000-1870. Excavated Ancestors and materials were transported to the University of Idaho before being transported to Washington State University in 2000. One of the Ancestors is currently at Washington State University while the other was recently returned to the University of Idaho by a former student.

Three associated funerary objects have been identified from site 45WT002 (Trestle) in Whitman County, Washington. The three associated funerary objects are: one modified faunal bone, one hawk bell, and one pendant. These cultural items were removed from the site during contract excavations conducted in 1963. Site 45WT002 has been described as having two temporal components with the early site use spanning 6700-2500 BP and the later component being historic (mid-1800s-1900s). The excavated materials were then split between Washington State University and University of Idaho prior to being consolidated at Washington State University where these cultural items still remain.

One associated funerary object has been identified from site 45WW6 in Walla Walla County, Washington. The associated funerary object is one tubular copper bead. This cultural item was likely removed from the site during excavations in 1951 by the Smithsonian River Basin Survey. Site 45WW6 was likely utilized from 700 BP through A.D. 1857. This cultural item is currently at the U.S. Army Corps of Engineers, Walla Walla District Office.

Human remains representing, at least, one individual have been identified from an Unknown Site in Washington. The 36 associated funerary objects are: one abalone shell with serrated edge, two lots of copper beads, one lot of dentalium bead fragments, one lot of glass beads, one lot of glass seed beads, two buckles, two lots of buttons, one cloth fragment with copper beads, one cloth fragment with leather and wood, one glass disk, one metal disk, one copper fork, one lot of faunal tooth fragments, one lot of metal fragments, one leather fragment with white beads, one lot of lithic materials, one large metal hook, one piece of rusted metal, one small porcelain dish, one fragment of ribbon, two lots of shoe fragments, one large copper spoon, one copper tube, one piece of coated wire, and one piece of wood. The Ancestor and cultural items were located within Walla Walla District archaeological collections from site 45WT39 at Washington State University, but did not have associated catalog, site, or provenience information. This Ancestor and cultural items likely originated from Palus Cemetery (45FR36), but ultimately their provenience could not be confirmed by the U.S. Army Corps of Engineers.

Cultural Affiliation

Based on the information available and the results of consultation, cultural affiliation is clearly identified by the information available about the human remains and associated funerary objects described in this notice.

Determinations

The U.S. Army Corps of Engineers, Walla Walla District has determined that:

• The human remains described in this notice represent the physical remains of nine individuals of Native American ancestry.

• The 41 objects described in this notice are reasonably believed to have been placed intentionally with or near individual human remains at the time of death or later as part of the death rite or ceremony.

• There is a connection between the human remains and associated funerary objects described in this notice and the Confederated Tribes and Bands of the Yakama Nation; Confederated Tribes of the Colville Reservation; Confederated Tribes of the Umatilla Indian Reservation; Confederated Tribes of the Warm Springs Reservation of Oregon; and the Nez Perce Tribe.

Requests for Repatriation

Written requests for repatriation of the human remains and associated funerary objects in this notice must be sent to the authorized representative identified in this notice under ADDRESSES. Requests for repatriation may be submitted by:

1. Any one or more of the Indian Tribes or Native Hawaiian organizations identified in this notice and, if joined to a request from one or more of the Indian Tribes, the Wanapum Band of Priest Rapids, a non-federally recognized Indian group.

2. Any lineal descendant, Indian Tribe, or Native Hawaiian organization not identified in this notice who shows, by a preponderance of the evidence, that the requestor is a lineal descendant or an Indian Tribe or Native Hawaiian organization with cultural affiliation.

Repatriation of the human remains and associated funerary objects described in this notice to a requestor may occur on or after January 20, 2026. If competing requests for repatriation are received, the U.S. Army Corps of Engineers, Walla Walla District must determine the most appropriate requestor prior to repatriation. Requests for joint repatriation of the human remains and associated funerary objects are considered a single request and not competing requests. The U.S. Army Corps of Engineers, Walla Walla District is responsible for sending a copy of this notice to the Indian Tribes and Native Hawaiian organizations identified in this notice and any other consulting parties.

Authority: Native American Graves Protection and Repatriation Act, 25 U.S.C. 3003, and the implementing regulations, 43 CFR 10.10.

Dated: December 2, 2025.
Melanie O'Brien,
Manager, National NAGPRA Program.

[FR Doc. 2025-23191 Filed 12-17-25; 8:45 am]

BILLING CODE 4312-52-P